DEPARTMENT OF THE INTERIOR

Bureau of Ocean Energy Management, Regulation and Enforcement

[Docket ID No. BOEM-2011-0009]

BOEMRE Information Collection Activity: 1010-0185, Increased Safety Measures for Oil and Gas Drilling, Well-Completion, and Well-Workover Operations, Renewal of a Collection; Submitted for Office of Management and Budget (OMB) Review; Comment Request

AGENCY: Bureau of Ocean Energy Management, Regulation and Enforcement (BOEMRE), Interior.

ACTION: Notice of extension of an information collection (1010-0185).

SUMMARY: To comply with the Paperwork Reduction Act of 1995 (PRA), we are notifying the public that we have submitted to OMB an information collection request (ICR) to renew approval of the paperwork requirements in the regulations under 30 CFR 250, “Increased Safety Measures for Oil and Gas Drilling, Well-Completion, and Well-Workover Operations,” and related documents. This notice also provides the public a second opportunity to comment on the paperwork burden of these regulatory requirements.

DATES: Submit written comments by April 18, 2011.

ADDRESSES: Submit comments by either fax (202) 395-5806 or e-mail (OIRA_DOCKET@omb.eop.gov) directly to the Office of Information and Regulatory Affairs, OMB, Attention: Desk Officer for the Department of the Interior (1010-0185). Please also submit a copy of your comments to BOEMRE by any of the means below.

• Electronically: go to http://www.regulations.gov. In the entry titled, “Enter Keyword or ID,” enter BOEM-2011-0009 then click search. Follow the instructions to submit public comments and view supporting and related materials available for this collection. BOEMRE will post all comments.

• E-mail cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0185 in your comment and include your name and return address.

FOR FURTHER INFORMATION CONTACT: Cheryl Blundon, Regulations and Standards Branch, (703) 787-1607. To see a copy of the entire ICR submitted to OMB, go to http://www.reginfo.gov (select Information Collection Review, Currently Under Review).

SUPPLEMENTARY INFORMATION:

Title: 30 CFR 250, Increased Safety Measures for Oil and Gas Drilling, Well-Completion, and Well-Workover Operations.

OMB Control Number: 1010-0185.

Abstract: The Outer Continental Shelf (OCS) Lands Act, as amended (43 U.S.C. 1331 et seq. and 43 U.S.C. 1801 et seq.), authorizes the Secretary of the Interior to prescribe rules and regulations to manage the mineral resources of the OCS. Such rules and regulations will apply to all operations conducted under a lease, right-of-use and easement, or pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the Outer Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The interim rule (75 FR 63346), effective October 14, 2010, implemented certain safety measures outlined in the Secretary of the Interior's report entitled, “Increased Safety Measures for Energy Development on the Outer Continental Shelf” (Safety Measures Report), dated May 27, 2010. The President requested that the Department of the Interior develop this report as a result of the Deepwater Horizon incident on April 20, 2010. On June 2, 2010, the Secretary of the Interior directed the Bureau of Ocean Energy Management, Regulation and Enforcement (BOEMRE) to adopt the recommendations contained in the Safety Measures Report and to implement them as soon as possible.

This information collection (IC) request concerns the regulations that amend certain drilling requirements. This includes requirements related to subsea and surface blowout preventers (BOPs), well casing and cementing, secondary intervention, unplanned disconnects, record keeping, well completion, and well plugging. It also covers the related Notices to Lessees and Operators (NTLs) that the BOEMRE issues to clarify and provide additional guidance on some aspects of the regulations.

Regulations implementing these responsibilities are under multiple subparts in 30 CFR part 250. Responses are mandatory and are submitted on occasion. No questions of a sensitive nature are asked. BOEMRE protects information considered proprietary according to the Freedom of Information Act (5 U.S.C. 552) and its implementing regulations (43 CFR part 2), 30 CFR 250.197, “Data and information to be made available to the public or for limited inspection,” and 30 CFR part 252, “OCS Oil and Gas Information Program.”

BOEMRE collects the information to address various recommendations from the Secretary's report that were incorporated into the regulations. These regulatory requirements: ensure sufficient redundancy in the BOPs; promote the integrity of the well and enhance well control; and facilitate a culture of safety through operational and personnel management. They also improve the safety of offshore oil and gas drilling operations in Federal waters and promote human safety and environmental protection while requiring OCS lessees and operators to follow best industry practices for well control. This collection references Applications for Permit to Drill and Modify (Forms MMS-123 and MMS-124) but does not change the forms.

Frequency: On occasion.

Description of Respondents: Potential respondents comprise Federal oil, gas, or sulphur lessees and/or operators.

Estimated Reporting and Recordkeeping Hour Burden: The estimated annual hour burden for this information collection is a total of 44,731 hours. The following chart details the individual components and estimated hour burdens. In calculating the burdens, we assumed that respondents perform certain requirements in the normal course of their activities. We consider these to be usual and customary and took that into account in estimating the burden.

Citation 30 CFR 250 | Reporting & recordkeeping requirement | Hour burden | Average No. of annual responses | Annual burden hours
Subpart D
408; 409; 410-418; 420(a)(6); 423(b)(3), (c)(1); 449(j), (k)(1); plus various references in subparts A, B, D, E, H, P, Q | Apply for permit to drill/revised APD that includes any/all supporting documentation/evidence [test results, calculations, verifications, procedures, criteria, qualifications, etc.] and requests for various approvals required in subpart D (including §§ 250.423, 424, 427, 432, 442(c), 447, 448(c), 449(j), (k), 451(g), 456(a)(3), (f), 460, 490(c)(1), (2)) and submitted via Application for Permit to Drill | 6 | 700 | 4,200
416(g)(2) | Provide 24 hour advance notice of location of shearing ram tests or inspections; allow BOEMRE access to witness testing, inspections and information verification | 10 mins | 6 notifications | 1
420(b)(3) | Submit dual mechanical barrier documentation after installation | 30 mins | 700 submittals | 350
423(a) | Request approval of other pressure casing test pressures per District Manager | Burden covered under 1010-0141 |  | 0
423(b)(4), (c)(2) | Perform pressure casing test; document results and make available to BOEMRE upon request | 30 mins | 700 drilling ops × 5 tests per ops = 3,500 tests | 1,750
442(c) | Request alternative method for the accumulator system | Burden covered under 1010-0141 |  | 0
442(h) | Label all functions on all panels; | 30 mins | 30 panels | 15
442(i) | Develop written procedures for management system for operating the BOP stack and LMRP | 4 | 30 procedures | 120
442(j) | Establish minimum requirements for authorized personnel to operate critical BOP equipment; require training | Burden covered under 1010-0128 |  | 0
446(a) | Document BOP maintenance and inspection procedures used; record results of BOP inspections and maintenance actions; maintain records for 2 years; make available to BOEMRE upon request | 1 | 105 rigs | 105
449; 450; 467 | Function test annular and rams; document results every 7 days between BOP tests (biweekly). Note: part of BOP test | Burden covered under 1010-0141 |  | 0
449(j)(2) | Test all ROV intervention functions on your subsea BOP stack; document all test results; make available to BOEMRE upon request | 10 | 110 wells | 1,100
449(k)(2) | Function test autoshear and deadman on your subsea BOP stack during stump test; document all test results; make available to BOEMRE upon request | 30 mins | 110 wells | 55
456(i) | Record results of drilling fluid tests in drilling report | Burden covered under 1010-0141 |  | 0
456(j) | Submit detailed step by step procedures describing displacement of fluids with your APD/APM [this submittal obtains District Manager approval] | 2 | 110 wells | 220
460; 465; 449(j), (k)(1); 516(d)(8), (d)(9); 616(h)(1), (2); plus various references in subparts A, D, E, F, H, P, and Q | Submit revised plans, changes, well/drilling records, procedures, certifications that include any/all supporting documentation etc., submitted via Application for Permit to Modify | 4 | 4,057 | 16,228
Subtotal |  |  | 9,458 responses | 24,144 hours
Subpart E
516(d)(8) | Submit test procedures with your APM for approval | Burden covered under 1010-0141 |  | 0
516(d)(8) | Function test ROV interventions on your subsea BOP stack; document all test results; make available to BOEMRE upon request | 10 | 110 wells | 1,100
516(d)(9) | Function test autoshear and deadman on your subsea BOP stack during stump test; document all test results; make available to BOEMRE upon request | 30 mins | 1,048 completions | 524
516(g)(l) | Document the procedures used for BOP inspections; record results; maintain records for 2 years; make available to BOEMRE upon request | 7 days × 12 hrs/day = 84 | 105 rigs/once every 3 years = 35 per year | 2,940
516(g)(2) | Request alternative method to inspect a marine riser | Burden covered under 1010-0067 |  | 0
516(h) | Document the procedures used for BOP maintenance; record results; maintain records for 2 years; make available to BOEMRE upon request | 1 | 105 rigs | 105
Subtotal |  |  | 1,298 responses | 4,669 hours
Subpart F
616(h)(l) | Test all ROV intervention functions on your subsea BOP stack; document all test results; make available to BOEMRE upon request | 10 hours | 1,226 workovers | 12,260
616(h)(2) | Function test autoshear and deadman on your subsea BOP stack during stump test; document all test results; make available to BOEMRE upon request | 30 mins | 1,226 workovers | 613
617(a)(l) | Document the procedures used for BOP inspections; record results; maintain records for 2 years; make available to BOEMRE upon request | 7 days × 12 hrs/day = 84 | 105 rigs/once every 3 years = 35 per year | 2,940
617(a)(2) | Request approval to use alternative method to inspect a marine riser. | Burden covered under 1010-0067 |  | 0
617(b) | Document the procedures used for BOP maintenance; record results; maintain records for 2 years; make available to BOEMRE upon request | 1 | 105 rigs | 105
Subtotal |  |  | 2,592 responses | 15,918 hours
Subpart Q
1712(f), (g); 1721(h) | Submit with your APM, archaeological and sensitive biological features; professional engineer certification | Burden covered under 1010-0141 |  | 0
1721(e) | Identify and report subsea wellheads, casing stubs, or other obstructions | USCG requirements |  | 0
Total |  |  | 13,348 Responses | 44,731 Hours

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on October 14, 2010, we published a Federal Register notice (75 FR 63346) associated with the IFR announcing that we would submit this ICR to OMB for approval. The notice provided the required 60-day comment period. In addition, § 250.199 provides the OMB control number for the information collection requirements imposed by the 30 CFR 250 regulations and forms. The regulation also informs the public that they may comment at any time on the collections of information and provides the address to which they should send comments. We received multiple comments in response to the IFR; however, BOEMRE is extending the comment period and will continue to accept comments on the IFR and this information collection. Therefore, all comments received to date, and those that may be received during the extended comment period, will be considered, addressed, and consolidated in the final rulemaking, and we will revise this collection of information accordingly.

If you wish to comment in response to this notice, you may send your comments to the offices listed under the ADDRESSES section of this notice. The OMB has up to 60 days to approve or disapprove the information collection but may respond after 30 days. Therefore, to ensure maximum consideration, OMB should receive public comments by April 18, 2011.

Public Availability of Comments: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: March 3, 2011.
Doug Slitor,
Acting Chief, Office of Offshore Regulatory Programs.

[FR Doc. 2011-6411 Filed 3-17-11; 8:45 am]

BILLING CODE 4310-MR-P